Title 3—

The President

Proclamation 7337 of September 5, 2000

Health in Aging Month, 2000

By the President of the United States of America

A Proclamation

At the beginning of the 20th century, there were only 3 million older Americans; today, at the dawn of the 21st century, there are 34 million older citizens in our Nation, and we anticipate that, by the year 2050, one in four Americans will be 65 or older. We can be grateful that because of extraordinary advances in medicine, technology, and science, as well as increased public awareness of the importance of good nutrition and physical fitness, these older citizens are now living longer, more active, more productive lives than any previous generation.

The dramatic increase in the life span of our citizens, however, presents us with new challenges. While Americans are no longer dying from many of the diseases that affected previous generations, they must now contend with chronic conditions such as arthritis, osteoporosis, heart and lung disease, dementia, and stroke. These conditions are major causes of disability and death in our Nation, and their financial impact, in terms of medication, treatment, and long-term care costs, can be crushing. Older Americans now pay an average of more than $1,200 a year for prescription drugs, up from $559 in 1992, and that amount is projected to increase to more than $2,800 over the next decade. Millions of these older citizens have no prescription drug coverage at all, and millions more have expensive, inadequate coverage or are at risk of losing what coverage they have.

My Administration has taken a number of important actions to meet these new challenges. We have proposed a new affordable Medicare prescription drug benefit option available to all beneficiaries. This new benefit should ensure that every beneficiary, whether covered under Medicare, managed care, or a retiree health plan, will be able to access prescription drug coverage, including protection against catastrophic drug costs. We have also proposed an initiative to assist millions of older Americans and their families in meeting the financial challenges of long-term care, including a $3,000 tax credit for people with long-term care needs or their caregivers and improved equity in Medicaid eligibility for people living in home- and community-based settings rather than nursing facilities.

We are continuing our research efforts into chronic conditions that affect older Americans, such as Parkinson's disease, Alzheimer's disease, and diabetes, and I am proud that my proposed budget for fiscal 2001 includes a historic $1 billion increase in funding for the National Institutes of Health. And, most important, we remain committed to meeting the health and financial needs of older Americans by protecting and strengthening Social Security and Medicare and modernizing, improving, and reauthorizing the Older Americans Act.

But there is still much to do if we are to sustain the health and quality of life of our increasingly aging population. We must raise awareness of the unique needs of older Americans and ensure that caregivers and health professionals are specially trained to treat the elderly. We must expand our research efforts into chronic conditions that affect older Americans. And we must improve health care financing, delivery, and administrative structures so that health plans and providers have the flexibility they need to reduce the prevalence of chronic diseases, slow the rate of disability progression, and ensure the continuity and quality of care.

The health of older Americans varies from individual to individual and can depend on many factors, but we all recognize the critical importance of quality medical care, financial security, and a caring support system to sustaining a high quality of life. As our Nation's population ages, let us work together to ensure that these essential components of good health are available to every American.

NOW, THEREFORE, I, WILLIAM J. CLINTON, President of the United States of America, by virtue of the authority vested in me by the Constitution and laws of the United States, do hereby proclaim September 2000 as Health in Aging Month, 2000. I urge government officials, health care providers, business and community leaders, and the American people to work together to promote healthy aging and to ensure that older citizens enjoy fulfilling, independent, and productive lives.

IN WITNESS WHEREOF, I have hereunto set my hand this fifth day of September, in the year of our Lord two thousand, and of the Independence of the United States of America the two hundred and twenty-fifth.

wj

[FR Doc. 00-23275

Filed 9-7-00; 8:45 am]

Billing code 3195-01-P